DEPARTMENT OF COMMERCE

National Oceanic and Atmospheric Administration

50 CFR Part 300

[0648-XG791]

Fisheries off West Coast States; Highly Migratory Fisheries; Amendment 6 to Fishery Management Plan for U.S. West Coast Fisheries for Highly Migratory Species; Authorization of Deep-Set Buoy Gear

AGENCY: National Marine Fisheries Service (NMFS), National Oceanic and Atmospheric Administration (NOAA), Commerce.

ACTION: Notice of intent to prepare an Environmental Impact Statement (EIS); announcement of public scoping period and request for comments.

SUMMARY: NMFS and the Pacific Fishery Management Council (Council) announce their intent to prepare an EIS, in accordance with the National Environmental Policy Act (NEPA) of 1969, to analyze the potential short- and long-term impacts of the proposed action to authorize deep-set buoy gear under the Fishery Management Plan for U.S. West Coast Fisheries for Highly Migratory Species (HMS FMP) on the human (biological, physical, social, and economic) environment. This notice of intent to prepare an EIS invites interested parties to provide comments on alternatives to be considered in an EIS and to identify potential issues, concerns, and any reasonable additional alternatives that should be considered.

DATES: Written comments on the scope of the analysis will be accepted through April 3, 2019. Written, faxed, or emailed comments must be received by 5 p.m. Pacific Daylight Time (PDT) on April 3, 2019. Public comments will also be accepted during a webinar scheduled for 1 p.m. to 3 p.m. PDT, March 26, 2019. Please notify Lyle Enriquez (see FOR FURTHER INFORMATION CONTACT, below) by March 19, 2019, if you plan to attend the webinar. Instructions for connecting or calling into the webinar will be emailed to meeting participants. Accommodations for persons with disabilities are available; accommodation requests should be directed to Lyle Enriquez at least 10 working days prior to the webinar. Additionally, please note that public scoping for this proposed action will continue through regular meetings of the Council and its advisory bodies (see: http://www.pcouncil.org/council-operations/council-meetings/future-meetings/).

ADDRESSES: You may submit comments on the scope of this EIS by any of the following methods:

• Electronic Submission: Submit all electronic public comments via the Federal e-Rulemaking Portal.

1. Go to www.regulations.gov/#!docketDetail;D=NOAA-NMFS-2019-0015

2. Click the “Comment Now!” icon, complete the required fields, and

3. Enter or attach your comments.

—OR—

• Mail: Submit written comments to Lyle.Enriquez@noaa.gov, NMFS West Coast Region Long Beach Office, 501 W Ocean Blvd., Suite 4200, Long Beach, CA 90802. Include the identifier “NOAA-NMFS-2019-0015” in the comments.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information or otherwise sensitive or protected information. NMFS will accept anonymous comments (enter “N/A” in the required fields if you wish to remain anonymous).

Copies of this document can be obtained from http://www.regulations.gov, docket NOAA-NMFS-2019-0015, or by contacting NMFS West Coast Region Long Beach Office, 501 W Ocean Blvd., Suite 4200, Long Beach, CA 90802, or WCR.HMS@noaa.gov.

FOR FURTHER INFORMATION CONTACT: Lyle Enriquez, NMFS, 562-980-4025, Lyle.Enriquez@noaa.gov.

SUPPLEMENTARY INFORMATION:

Background

After a series of initial research and exempted fishing permit trials of deep-set buoy gear, (including both standard and linked configurations) the Council decided to consider authorizing the gear to be fished in the exclusive economic zone (EEZ) off the U.S. west coast under the HMS FMP. The initial trials indicate that this innovative gear-type has infrequent protected species (including sea turtles, marine mammals, and seabirds) interactions and finfish bycatch, and it may contribute to an economically viable U.S. west coast swordfish fishery. Currently, only two other fishing gears are authorized for targeting swordfish in the EEZ off the U.S. west coast: Harpoon and drift gillnet. Participation in the drift gillnet fleet has declined considerably over the last two decades, with between 17 and 23 vessels delivering swordfish landings to U.S. west coast ports each year since 2014. Fewer than 21 harpoon vessels made landings each year since 2014. The harpoon fishery has historically been a low-volume fishery compared to the drift gillnet fishery.

Purpose and Need for the Proposed Action

The purpose and need as determined by the Council during its November 2018 meeting are as follows:

• The purpose of the proposed action is to authorize the use of deep-set buoy gear as an additional fishing gear in the U.S. west coast commercial swordfish fishery that minimizes bycatch and incidental mortality of finfish and protected species (including sea turtles, marine mammals, and seabirds) to the extent practicable while maximizing the potential for an economically viable fishery.

• The proposed action is needed to authorize deep-set buoy gear as a new gear type as a component of a U.S. west coast swordfish fishery that effectively addresses the 10 National Standards (NS) for Conservation and Management included in the Magnuson Stevens Act, Section 301, in particular NS One (optimum yield) and Nine (minimize bycatch).

Deep-Set Buoy Gear Configurations and Operations

Deep-set buoy gear is an umbrella term referring to two distinct gear configurations. These configurations include standard buoy gear and linked buoy gear. An individual piece of standard buoy gear consists of a vertical monofilament mainline suspended from a buoy-array with a terminal weight. Up to three gangions with hooks may be attached to the mainline at a minimum depth of 90 meters (295 feet). An individual piece of linked buoy gear consists of a monofilament mainline which extends vertically from a buoy-array (either directly or from a minimum 50 foot poly-line extender) to a weight; then horizontally to a second weight; then vertically to a minimum 50 foot poly-line extender attached to a second buoy-array. Up to three gangions with hooks may be connected to each horizontal section of the mainline, all of which must be fished below 90 meters. The pieces may be linked together by the mainline, which is serviceable between each piece of linked buoy gear and must be suspended between links below a depth of 50 feet. No more than 10 sections of linked buoy gear may be deployed at any one time, with no more than three hooks per section.

Both configurations include the following specifications and operational criteria:

• The surface buoy flotation and strike detection array must consist of a minimum of three buoys (a minimum 45 pound buoyancy non-compressible hard ball, a minimum 6 pound buoyancy buoy, and a strike detection buoy), with no more than six feet of line between adjacent buoys, all connected in-line by a minimum of ⅜ inch diameter line and no use of buoy tether attachments (e.g., non-streamlined gear with loops and/or dangling components). Standard and terminal linked buoy-arrays must include a locator flag, a radar reflector, and vessel/fisher identification compliant with all current state requirements and regulations;

• Weights must be a minimum of 3.6 kilograms;

• Lines connecting surface buoys must be at least ⅜ of an inch in diameter;

• Minimum size 16/0 circle hooks with not more than 10° offset;

• A vessel may deploy no more than ten pieces of standard or linked buoy gear one time, with no more than three hooks per piece;

• All pieces of gear must remain within a five nautical mile diameter circle and the vessel may be no more than three nautical miles from the nearest piece of gear. These specifications allow for active tending;

• Gear must be deployed prior to local sunrise and onboard the vessel no later than three hours after local sunset;

• Gear types other than deep-set buoy gear may be used on the same trip when deep-set buoy gear is used as long as the deep-set buoy gear is actively tended. This limits the gears with which fishermen could concurrently fish with deep-set buoy gear and maintain maneuverability to allow for active tending or staying within the active tending boundary or both. Other gears may be set and retrieved on the way out to and returning from sea, and deep-set buoy gear fished and actively tended in between, potentially at a large distance from the other gear.

Alternatives

A detailed description of the alternatives adopted by the Council on November 7, 2018, can be found here: https://www.pcouncil.org/wp-content/uploads/2019/02/J1a_NMFS_Rpt1_MAR2019BB.pdf. The following description summarizes the scope of the alternatives currently being considered by NMFS and the Council. The range of alternatives that the Council adopted includes a No Action Alternative and two action alternatives (i.e., Alternative 1 and Alternative 2). The action area encompasses the U.S. west coast EEZ between the Mexico/United States border to the South and the Oregon/Washington border to the North. Alternative 1 is to authorize deep-set buoy gear under an open access permit. Alternative 2 is to authorize the gear as an open access permit for the action area, except for an area off of Southern California East of 120°28′18″ W longitude, which would be authorized through a limited entry permit or endorsement. The Council advised analyzing the impacts of authorizing up to 500 permits under each action alternative.

Under Alternative 2, the Council adopted five sub-options pertaining to the number and timing of limited entry permits to be issued in the Southern California Bight. These options are as follows:

1. Not more than 25 permits per year, not to exceed 300 total;

2. Not more than 50 permits per year, not to exceed 300 total;

3. Not more than 100 permits per year, not to exceed 300 total;

4. Not more than 300 permits maximum; and

5. Up to 50 permits issued in the first permit year, and up to 25 permits issued annually in subsequent years until either (a) a maximum of 300 permits are issued, (b) NMFS determines less than 300 are necessary to ensure compliance with the Endangered Species Act and Marine Mammal Protection Act, or (c) the Council recommends to NMFS that less than 300 permits are necessary to meet stakeholder needs.

The Council selected Alternative 2, Option 5 as its preliminary preferred alternative (PPA) on November 7, 2018. On November 7, 2018, the Council also selected a range of options for limited entry qualifying criteria (i.e., including ranked criteria for some options) for limited entry permits to be issued under Alternative 2. These options would assign higher permit issuance priority to persons with demonstrated swordfish fishing experience or permit possession history. Once priority-ranked permits are issued under these options, any remaining permits would be issued on a first-come, first-served basis.

Preliminary Identification of Environmental Issues

A principal objective of the scoping and public input process is to identify potentially significant impacts to the human environment that should be analyzed in depth in the EIS. Information and analysis prepared for this action also may be used for scoping future swordfish harvest and management measure actions to help decide whether to prepare an Environmental Assessment or EIS.

Public Scoping Process

Public scoping occurs throughout the Council's decision-making process. All decisions during the Council process benefit from written and oral public comments delivered prior to or during Council meetings. These public comments are integral to scoping for developing this EIS. The Council began considering the proposed action at their March 2016 meeting, and they developed a range of alternatives during their June 2016, March 2017, and June 2018 meetings. During the November 2018 meeting, the Council adopted a final range of alternatives, including qualifying criteria for limited entry program options, and selected a preliminary preferred alternative. Council meetings in 2019 that offer additional opportunities for public involvement include: The March 5-12 meeting in Vancouver, Washington (Hilton Vancouver Washington, 301 W Sixth Street, Vancouver, WA 98660), and the June 18-25 meeting in San Diego, California (Doubletree by Hilton San Diego (7450 Hazard Center Drive, San Diego, CA 92108). For further information on these meetings, visit the Council's website, http://www.pcouncil.org/council-operations/council-meetings/future-meetings/.

Dated: February 22, 2019.
Alan D. Risenhoover,
Director, Office of Sustainable Fisheries, National Marine Fisheries Service.

[FR Doc. 2019-03493 Filed 3-1-19; 8:45 am]

BILLING CODE 3510-22-P